COMMITTEE FOR PURCHASE FROM PEOPLE WHO ARE BLIND OR SEVERELY DISABLED

Procurement List; Additions and Deletion

AGENCY: Committee for Purchase from People Who Are Blind or Severely Disabled.

ACTION: Additions to and deletions from Procurement List.

SUMMARY: This action adds to the Procurement List services to be furnished by nonprofit agencies employing persons who are blind or have other severe disabilities, and deletes from the Procurement List a service previously furnished by such agencies.

EFFECTIVE DATE: March 20, 2005.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, telephone: (703) 603-7740, Fax: (703) 603-0655, or e-mail SKennerly@jwod.gov.

SUPPLEMENTARY INFORMATION:

Additions

On December 17, 2004, the Committee for Purchase From People Who Are Blind or Severely Disabled published notice (69 FR 75507) of proposed additions to the Procurement List.

After consideration of the material presented to it concerning capability of qualified nonprofit agencies to provide the services and impact of the additions on the current or most recent contractors, the Committee has determined that the services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List.

End of Certification

Accordingly, the following services are added to the Procurement List:

Services

Service Type/Location: Custodial Services, Charles E. Bennett Federal Building, 400 W. Bay Street, Jacksonville, Florida.

NPA: CCAR Services, Inc., Green Cove Springs, Florida.

Contracting Activity: GSA, Property Management Center (4PMB), Atlanta, Georgia.

Service Type/Location: Facilities Maintenance, Buckley Annex and Building 667, Buckley AFB, Colorado.

NPA: Professional Contract Services, Inc., Austin, Texas.

Contracting Activity: 460th Air Base Wing, Buckley AFB, Colorado.

Service Type/Location: Water Blasting, Various U.S Military Locations—Guam, Marianas, Guam.

NPA: Able Industries of the Pacific, Tamuning, Guam.

Contracting Activity: Officer in Charge of Construction—FSSC, Guam.

Deletion

On November 26, 2004, the Committee for Purchase From People Who Are Blind or Severely Disabled published notice (69 FR 68875) of proposed deletions to the Procurement List. After consideration of the relevant matter presented, the Committee has determined that the service listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the service to the Government.

3. There are no known regulatory alternatives which would accomplish the objectives of the Javits-Wagner-O'Day Act (41 U.S.C. 46-48c) in connection with the service deleted from the Procurement List.

End of Certification

Accordingly, the following service is deleted from the Procurement List:

Service

Service Type/Location: Janitorial/Custodial, Department of Agriculture, Animal & Plant Health Inspection Services, (APHIS), Orlando, Florida.

NPA: Lakeview Center, Inc., Pensacola, Florida.

Contracting Activity: Animal & Plant Health Inspection Service, Minneapolis, Minnesota.

Sheryl D. Kennerly,
Director, Information Management.

[FR Doc. 05-3174 Filed 2-17-05; 8:45 am]

BILLING CODE 6353-01-P